DEPARTMENT OF AGRICULTURE

Submission for OMB Review; Comment Request

November 19, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: A Pilot Generic Clearance To Conduct Experimental Economic Research.

OMB Control Number: 0536-0070.

Summary of Collection: The primary function of the Economic Research Service (ERS) is to provide economic and social science research, analysis for public and private decisions on agriculture, food, natural resources, and rural America, and to disseminate data under the authority of 7 U.S.C. 2204(a) and 7 U.S.C. 2026(a)(1). ERS envisions to conduct experimental economic research to further an ongoing initiative that would use insight from behavioral economic to provide economic intelligence, research, and analysis to inform agricultural resource and conservation policies. ERS plans on using a number of research techniques including laboratory and field techniques, exploratory interviews, pilot experiments, and respondent debriefing to develop and implement state-of-the-art research methodologies to better inform and advance scientific understanding for its customers in response to both specific requests and in anticipation of future need. This request is being sought as a continuing pilot of the concept of using a generic approval mechanism for the type of experiments listed above. As such, experiments will be limited to two topic areas: Conservation and nutrition. ERS does not intend to use the information collected under this approval for purposes of developing or evaluating policy. ERS does not intend to invoke CIPSEA for the collection, but instead intends to protect respondent information under the Privacy Act of 1974 and the E-Government Act of 2002.

Need and Use of the Information: Information collected from experiments will allow ERS to develop and implement state-of-the-art research methodologies to better inform and advance scientific understanding for its customers in response to both specific request and to anticipation of future need. ERS will use a number of research techniques, as appropriate to the individual investigation. These include laboratory and field techniques, exploratory interviews, pilot experiments, and respondent debriefing.

Description of Respondents: Individuals or households; Business or other for-profit; Farms.

Number of Respondents: 6,900.

Frequency of Responses: Reporting: Annually.

Total Burden Hours: 7,025.

Ruth Brown,
Departmental Information Collection Clearance Officer.

[FR Doc. 2014-27862 Filed 11-24-14; 8:45 am]

BILLING CODE 3410-18-P